FEDERAL MARITIME COMMISSION

[Docket No. 20-11]

Notice of Filing of Complaint and Assignment; Aeneas Exporting LLC, Complainant v. Carlo Shipping International, Inc., Respondent; Served: July 24, 2020

Notice is given that a complaint has been filed with the Federal Maritime Commission (Commission) by Aeneas Exporting LLC, hereinafter “Complainant”, against Carlo Shipping International, Inc., hereinafter “Respondent”. Complainant states that it “is an Indiana limited-liability company that exports vehicles from the United States to foreign countries including Libya.” and is principally located in Bloomington, IN. Complainant states that Respondent is a non-vessel-operating common carrier and freight forwarder licensed by the Federal Maritime Commission. Complainant states that Respondent provides “freight forwarding, logistics, and related shipping services to customers in the United States” and is in New Jersey.

Complainant alleges that it “used Respondent's services to ship approximately 101 containers to Libya, at a total cost of approximately $239,550.00” between November 2019 and February 2020. Complainant alleges that Respondent increased rates, demanded payments, and held shipments in violation of the “shipping application form” memorializing the agreement between the parties.

Complainant alleges that Respondents violated 46 U.S.C.A. 41102(c) and 41104(a)(3). Complainant alleges that “Respondent has failed to establish, observe, or enforce just and reasonable regulations and practices relating to its receipt, handling, storing, and delivery of Aeneas Exporting's property.” Complainant also alleges that “Respondent has taken retaliatory steps against [Complainant] in response to [Complainant's] decision to ship its containers with another company.” Complainant alleges it incurred “financial damages of at least $49,150.00” and seeks reparations and other relief.

The full text of the complaint can be found in the Commission's Electronic Reading Room at https://www2.fmc.gov/readingroom/proceeding/20-11/.

This proceeding has been assigned to Office of Administrative Law Judges. The initial decision of the presiding office in this proceeding shall be issued by July 26, 2021, and the final decision of the Commission shall be issued by February 7, 2022.

Rachel Dickon,
Secretary.

[FR Doc. 2020-16477 Filed 7-29-20; 8:45 am]

BILLING CODE 6730-02-P